OFFICE OF THE UNITED STATES TRADE REPRESENTATIVE

Generalized System of Preferences (GSP): Notice Regarding the Announcement of Petitions Accepted for the 2009 Annual GSP Country Practices Review, Acceptance of Pre-Hearing Comments and Requests To Testify for the 2009 Annual GSP Country Practices Review Hearing, and the Initiation of the 2010 Annual GSP Country Practices Review

AGENCY: Office of the United States Trade Representative.

ACTION: Notice and solicitation for public petitions.

SUMMARY: The Office of the United States Trade Representative (USTR) accepted petitions in connection with the 2009 GSP Annual Review to modify the GSP status of certain GSP beneficiary developing countries because of country practices. This notice sets forth the schedule for comment and public hearings on the newly accepted petitions for the 2009 Country Eligibility Practices Review, for requesting participation in the hearings, and for submitting pre-hearing and post-hearing briefs, and determines that the deadline for submitting pre-hearing comments and requesting participation in the hearings is 5 p.m., Friday, September 3, 2010. The list of newly accepted petitions is available at: http://www.ustr.gov/trade-topics/trade-development/preference-programs/generalized-system-preference-gsp/current-review-1 in “List of Country Practice Petitions Accepted in the 2009 GSP Annual Review.” The petitions accepted include a Worker Rights petition regarding Sri Lanka filed by the AFL-CIO and two Arbitral Awards petitions regarding Argentina filed by Azurix Corporation and Blue Ridge Investments, LLC. The petitions themselves can be found in docket USTR-2009-0015 at http://www.regulations.gov.

This notice also announces the initiation of the 2010 Annual GSP Country Eligibility Practices Review and determines that the deadline for new country practice petitions is 5 p.m., Friday, September 10, 2010. Any new country practice petitions accepted for review and any hearing schedule would be announced in the Federal Register at a later date.

FOR FURTHER INFORMATION CONTACT: Tameka Cooper, GSP Program, Office of the United States Trade Representative, 1724 F Street, NW., Room 601, Washington, DC 20508. The telephone number is (202) 395-6971, the fax number is (202) 395-2961, and the e-mail address is Tameka_Cooper@ustr.eop.gov.

DATES: The GSP regulations (15 CFR part 2007) provide the schedule of dates for conducting an annual review unless otherwise specified in a Federal Register notice. The current schedule follows. Notification of any other changes will be given in the Federal Register.

September 3, 2010: Due date for submission of pre-hearing briefs and requests to appear at the GSP Subcommittee Public Hearing that include the name, address, telephone, fax, e-mail address and organization of witnesses to address accepted country practice petitions.

September 10, 2010: Due date for submission of petitions for country practices review as part of the 2010 Annual GSP Review.

September 24, 2010: GSP Subcommittee Public Hearing, for all country practice petitions accepted for the 2009 GSP Annual Review, to be held in the Truman Room, White House Conference Center, 726 Jackson Place, Washington, DC, beginning at 9:30 a.m.

October 15, 2010: Due date for submission of post-hearing briefs.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

Petitions for Review Regarding Country Practices

Pursuant to 15 CFR 2007.0(b), the GSP Subcommittee of the TPSC has recommended, and the TPSC has accepted the review of three country practice petitions. The list of newly accepted petitions is available at: http://www.ustr.gov/trade-topics/trade-development/preference-programs/generalized-system-preference-gsp/current-review-1 in “List of Country Practice Petitions Accepted in the 2009 GSP Annual Review.” The petitions accepted include a Worker Rights petition regarding Sri Lanka filed by the AFL-CIO and two Arbitral Awards petitions regarding Argentina filed by Azurix Corporation and Blue Ridge Investments, LLC.

Opportunities for Public Comment and Inspection of Comments

The GSP Subcommittee of the TPSC invites comments in support of or in opposition to any petition that has been accepted for the 2009 GSP Annual Review. Submissions should comply with 15 CFR part 2007, except as modified below. All submissions should identify the subject article(s) in terms of the case number, if applicable, as shown in the “List of Country Practice Petitions Accepted in the 2009 GSP Annual Review,” available at: http://www.ustr.gov/trade-topics/trade-development/preference-programs/generalized-system-preference-gsp/current-review-1.

Requirements for Submissions

All submissions for the 2009 GSP Country Practices Eligibility Review must conform to the GSP regulations set forth at 15 CFR part 2007, except as modified below. These regulations are available on the USTR Web site at http://www.ustr.gov/trade-topics/trade-development/preference-programs/generalized-system-preference-gsp/gsp-program-inf.

To ensure their timely and expeditious receipt and consideration, 2009 Annual Review submissions in response to this notice must be submitted online at http://www.regulations.gov, docket number USTR-2009-0015. Hand-delivered submissions will not be accepted. Submissions must be submitted in English by the applicable deadlines set forth in this notice.

To make a submission using http://www.regulations.gov, enter docket number USTR-2009-0015 on the home page and click “search.” The site will list all documents associated with this docket. Find a reference to this notice by selecting “Notices” under “Document Type” on the left side of the search results page, and click on the link entitled “Submit a Comment.” The http://www.regulations.gov Web site offers the option of providing comments by filling in the “Type Comment and Upload File” field or by attaching a document. Given the detailed nature of the information sought by the GSP Subcommittee, it is preferred that comments and submissions be provided in an attached document. When attaching a document, type: (1) 2009 GSP Annual Review (2) The Country and subject area of the petition (3) “See attached” in the “Type Comment and Upload File” field on the online submission form, and indicate on the attachment whether the document is, as appropriate, “Written Comments,” “Notice of Intent to Testify,” “Pre-hearing brief” or a “Post hearing brief.” The list of petitions for the 2009 Annual Review can be found in “List of Country Practice Petitions Accepted in the 2009 GSP Annual Review,” found on the USTR Web site at: http://www.ustr.gov/trade-topics/trade-development/preference-programs/generalized-system-preference-gsp/current-review-1. Submissions must be in English, with the total submission not to exceed 30 single-spaced standard letter-size pages in 12-point type, including attachments. Any data attachments to the submission should be included in the same file as the submission itself, and not as separate files.

Petitions for the 2010 Country Practices Review must conform to the regulations at 15 CFR part 2007. Petitions for the 2010 Country Practices Eligibility Review in response to this notice must be submitted to docket USTR-2010-0017. To make a submission using http://www.regulations.gov, enter docket number USTR-2010-0017 on the home page and click “search.” The site will list all documents associated with this docket. Find a reference to this notice by selecting “Notices” under “Document Type” on the left side of the search results page, and click on the link entitled “Submit a Comment.” The http://www.regulations.gov Web site offers the option of providing comments by filling in a “Type Comment and Upload File” field or by attaching a document. Given the detailed nature of the information sought by the GSP Subcommittee, it is preferred that comments and submissions be provided in an attached document. Any data attachments to the submission should be included in the same file as the submission itself, and not as separate files. When attaching a document, type: (1) 2010 GSP Annual Review (2) The Country and subject area of the petition (3) “See attached” in the “Type Comment and Upload File” field on the online submission form, and indicate on the attachment whether the document is a petition. Submissions must be in English, with the total submission not to exceed 30 single-spaced standard letter-size pages in 12-point type, including attachments.

Each submitter will receive a submission tracking number upon completion of the submissions procedure at http://www.regulations.gov. The tracking number will be the submitter's confirmation that the submission was received, and it should be kept for the submitter's records. USTR is not able to provide technical assistance for the website. Documents not submitted in accordance with these instructions may not be considered in this review. If unable to provide submissions as requested, please contact the GSP Program to arrange for an alternative method of transmission.

Business Confidential Comments

A person requesting that information contained in a submission submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” must be included in the “Type Comment & Upload File” field. Anyone submitting a comment containing business confidential information must also submit as a separate submission a non-confidential version of the confidential submission, indicating where confidential information has been redacted. The non-confidential version will be placed in the docket and open to public inspection.

Notice of Public Hearing

A hearing will be held by the GSP Subcommittee of the TPSC on Friday, September 24, 2010 for country practice petitions newly accepted in the 2009 GSP Annual Review beginning at 9:30 a.m. at the White House Conference Center. The hearing will be open to the public, and a transcript of the hearing will be made available for public inspection or can be purchased from the reporting company. No electronic media coverage (recording devices) will be allowed.

All interested parties wishing to make an oral presentation at the hearing must submit, following the above “Requirements for Submissions”, the name, address, telephone number, and facsimile number and email address, if available, of the witness(es) representing their organization to Seth Vaughn, Director of the GSP Program by 5 p.m., September 3, 2010. Requests to present oral testimony must be accompanied by a written brief or statement, in English. Oral testimony before the GSP Subcommittee will be limited to five-minute presentations that summarize or supplement information contained in briefs or statements submitted for the record. Post-hearing briefs or statements will be accepted if they conform with the regulations cited above and are submitted, in English, by 5 p.m., October 15, 2010. Parties not wishing to appear at the public hearing may submit pre-hearing briefs or statements, in English, by 5 p.m., September 3, 2010, and post-hearing written briefs or statements, in English, by 5 p.m., October 15, 2010.

2010 Annual GSP Country Eligibility Practices Review

As noted above, the GSP regulations (15 CFR part 2007) provide the timetable for conducting an annual review, unless otherwise specified by Federal Register notice. Notice is hereby given that, in order to be considered in the 2010 Annual GSP Country Eligibility Practices Review, all petitions to review the GSP status of any beneficiary developing country must be received by the GSP Subcommittee of the Trade Policy Staff Committee no later than 5 p.m. on Friday, September 10, 2010. The announcement of any petitions accepted for review and any hearing schedule for the 2010 GSP Country Practice Eligibility Review will be announced by Federal Register at a later date.

Petitions and requests must be submitted, in English, to the Chairman of the GSP Subcommittee, Trade Policy Staff Committee, in accordance with the requirements for submissions set forth above. Submissions in response to this notice will be available for public inspection in docket USTR-2010-0017 at http://www.regulations.gov. Documents not submitted in accordance with these instructions may not be considered in this review.

Seth Vaughn,
Director, GSP Program; Chairman, GSP Subcommittee of the Trade Policy Staff Committee; Office of the U.S. Trade Representative.

[FR Doc. 2010-19745 Filed 8-10-10; 8:45 am]

BILLING CODE 3190-W0-P